INTERNATIONAL TRADE COMMISSION

[Investigation No. 337-TA-583]

In the Matter of Certain Wireless Communication Devices, Components Thereof, and Products Containing the Same; Notice of a Commission Determination Not To Review an Initial Determination Terminating the Investigation

AGENCY: U.S. International Trade Commission.

ACTION: Notice.

SUMMARY: Notice is hereby given that the U.S. International Trade Commission has determined not to review an initial determination (“ID”) (Order No. 38) of the presiding administrative law judge (“ALJ”) terminating the above-captioned investigation under section 337 of the Tariff Act of 1930 (19 U.S.C. 1337). The Commission has terminated the investigation based on a settlement agreement.

FOR FURTHER INFORMATION CONTACT: Clint Gerdine, Esq., Office of the General Counsel, U.S. International Trade Commission, 500 E Street, SW., Washington, DC 20436, telephone (202) 708-2310. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on September 6, 2006, based on a complaint filed by Ericsson, Inc., of Plano, Texas, and Telefonaktiebolaget LM Ericsson of Stockholm, Sweden (collectively “Ericsson”). 71 FR 52579-52580. The complaint, as supplemented, alleges violations of section 337 of the Tariff Act of 1930, as amended, 19 U.S.C. 1337, in the importation into the United States, the sale for importation, and the sale within the United States after importation of certain wireless communication devices, components thereof, and products containing same by reason of infringement of U.S. Patent No. 5,758,295 (“the '295 patent”); U.S. Patent No. 5,783,926 (“the '926 patent”); U.S. Patent No. 5,864,765; U.S. Patent No. 6,009,319; U.S. Patent No. 6,029,052; U.S. Patent No. 6,198,405; U.S. Patent No. 6,387,027 (“the '027 patent”); U.S. Patent No. 6,839,549; and U.S. Patent No. 6,975,686. The complaint further alleges the existence of a domestic industry. The Commission's notice of investigation named Samsung Telecommunications America, LLP of Richardson, Texas; Samsung Electronics America, Inc. of Ridgefield Park, New Jersey; and Samsung Electronics Co., Ltd. of Seoul, Korea as respondents (collectively “Samsung”).

On December 8, 2006, Respondent Samsung moved to terminate part of the investigation as to certain products. On December 20, 2006, Complainant Ericsson filed an opposition to the motion, and the Commission investigative attorney (IA) filed a response in partial support of the motion. On February 12, 2007, the ALJ granted the motion insofar as it concerned Samsung's single mode CDMA/WCDMA cellular phones. The Commission determined on March 9, 2007, not to review this ID.

On March 14 and March 29, 2007, respectively, complainant Ericsson moved to terminate the investigation as to the ‘926 patent and claim 11 of the ‘295 patent. On May 1, 2007, the ALJ granted both motions in an ID (Order No. 30), and on May 17, 2007, the Commission determined not to review that ID. On May 4, 2007, complainant Ericsson moved to terminate the investigation as to the ‘027 patent. On May 22 and June 7, 2007, respectively, the ALJ granted the motion in an ID (Order No. 36), and the Commission determined not to review that ID.

On July 23, 2007, complainant Ericsson and respondent Samsung filed a joint motion to terminate the investigation on the basis of a settlement agreement. The Commission investigative attorney filed a response in support of the motion on July 31, 2007.

The ALJ issued the subject ID on August 3, 2007, granting the joint motion for termination. No party petitioned for review of the ID pursuant to 19 CFR 210.43(a), and the Commission found no basis for ordering a review on its own initiative pursuant to 19 CFR 210.44. Accordingly, the Commission has determined not to review the ID.

The authority for the Commission's determination is contained in section 337 of the Tariff Act of 1930, as amended (19 U.S.C. 1337), and in §§ 210.21(a)(2), (b) and 210.42(h)(3) of the Commission's Rules of Practice and Procedure.

By order of the Commission.
Issued: August 22, 2007.
Marilyn R. Abbott,
Secretary to the Commission.

[FR Doc. E7-16963 Filed 8-27-07; 8:45 am]

BILLING CODE 7020-02-P